NUCLEAR REGULATORY COMMISSION

Agency Information Collection Activities: Submission for the Office of Management and Budget (OMB) Review; Comment Request

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a current valid OMB control number.

1. Type of submission, new, revision, or extension: Revision.

2. The title of the information collection: NRC Form 313, “Application for Material License”; and NRC Form 313A, “Training and Experience and Preceptor Statement.”

3. The form number if applicable: NRC Form 313 and NRC Form 313A.

4. How often the collection is required: There is a one-time submittal of information to receive a license. Once a specific license has been issued, there is a 10-year resubmittal of the information for renewal of the license.

5. Who will be required or asked to report: All applicants requesting a license for byproduct or source material.

6. An estimate of the number of responses: 17,549.

7. The estimated number of annual respondents: 17,549 (3,743 NRC licensees + 12,726 Agreement State licensees + 1080 new modalities).

8. An estimate of the total number of hours needed annually to complete the requirement or request: 116,255 (26,687 hours for reporting and 89,568 hours for recordkeeping).

9. An indication of whether Section 3507(d), Pub. L. 104-13 applies: Not applicable.

10. Abstract: Applicants must submit NRC Forms 313, and 313A to obtain a specific license to possess, use, or distribute byproduct or source material. The information is reviewed by the NRC to determine whether the applicant is qualified by training and experience, and has equipment, facilities, and procedures which are adequate to protect the public health and safety, and minimize danger to life or property.

A copy of the final supporting statement may be viewed free of charge at the NRC Public Document Room, One White Flint North, 11555 Rockville Pike, Room O-1 F21, Rockville, MD 20852. OMB clearance requests are available at the NRC World Wide Web site: http://www.nrc.gov/public-involve/doc-comment/omb/index.html. The document will be available on the NRC home page site for 60 days after the signature date of this notice.

Comments and questions should be directed to the OMB reviewer listed below by September 3, 2002. Comments received after this date will be considered if it is practical to do so, but assurance of consideration cannot be given to comments received after this date.

Bryon Allen,

Office of Information and Regulatory Affairs (3150-0120),

NEOB-10202,

Office of Management and Budget,

Washington, DC 20503.

Comments can also be submitted by telephone at (202) 395-3087.

The NRC Clearance Officer is Brenda Jo. Shelton, 301-415-7233.

Dated at Rockville, Maryland, this 29th day of July, 2002.
For the Nuclear Regulatory Commission.
Brenda Jo. Shelton,
NRC Clearance Officer, Office of the Chief Information Officer.

[FR Doc. 02-19536 Filed 8-1-02; 8:45 am]

BILLING CODE 7590-01-P